DEPARTMENT OF ENERGY

Federal Energy Regulatory Commission

Combined Notice of Filings #1

Take notice that the Commission received the following electric corporate filings:

Docket Numbers: EC21-49-000.

Applicants: Atlantic Power Corporation, Tidal Power Holdings Limited, Tidal Power Aggregator, L.P.

Description: Application for Authorization Under Section 203 of the Federal Power Act of Atlantic Power Corporation, et al.

Filed Date: 2/5/21.

Accession Number: 20210205-5044.

Comments Due: 5 p.m. ET 2/26/21.

Take notice that the Commission received the following electric rate filings:

Docket Numbers: ER17-2515-005.

Applicants: Chambers Cogeneration, Limited Partnership.

Description: Compliance filing: Informational Filing Pursuant to Schedule 2 to be effective N/A.

Filed Date: 2/5/21.

Accession Number: 20210205-5175.

Comments Due: 5 p.m. ET 2/26/21.

Docket Numbers: ER19-1756-003.

Applicants: NorthWestern Corporation.

Description: Compliance filing: Compliance Filing to Incorporate Settlement Tariff Records to be effective 7/1/2019.

Filed Date: 2/5/21.

Accession Number: 20210205-5041.

Comments Due: 5 p.m. ET 2/26/21.

Docket Numbers: ER21-520-001.

Applicants: PJM Interconnection, L.L.C.

Description: Compliance filing: PJM submits Compliance Filing re: FTR Liquidation in ER21-520-000 to be effective 2/1/2021.

Filed Date: 2/5/21.

Accession Number: 20210205-5129.

Comments Due: 5 p.m. ET 2/26/21.

Docket Numbers: ER21-832-001.

Applicants: Tri-State Generation and Transmission Association, Inc.

Description: Tariff Amendment: Supplement to Amendment Filing to be effective 1/5/2021.

Filed Date: 2/5/21.

Accession Number: 20210205-5172.

Comments Due: 5 p.m. ET 2/26/21.

Docket Numbers: ER21-1046-000.

Applicants: Sugar Creek Wind One LLC.

Description: § 205(d) Rate Filing: Reactive Power Rate Schedule to be effective 4/5/2021.

Filed Date: 2/4/21.

Accession Number: 20210204-5136.

Comments Due: 5 p.m. ET 2/25/21.

Docket Numbers: ER21-1047-000.

Applicants: Southwestern Public Service Company.

Description: § 205(d) Rate Filing: SPS-GSEC-RBEC-IA Faria 724 0.0.0 to be effective 4/6/2021.

Filed Date: 2/4/21.

Accession Number: 20210204-5139.

Comments Due: 5 p.m. ET 2/25/21.

Docket Numbers: ER21-1048-000.

Applicants: PJM Interconnection, L.L.C.

Description: § 205(d) Rate Filing: Revisions to OA, Sch. 12 and RAA, Sch. 17 re: 4th Quarter 2020 Member Lists to be effective 12/31/2020.

Filed Date: 2/4/21.

Accession Number: 20210204-5143.

Comments Due: 5 p.m. ET 2/25/21.

Docket Numbers: ER21-1049-000.

Applicants: PJM Interconnection, L.L.C.

Description: § 205(d) Rate Filing: Original WMPA, Service Agreement No. 5963; Queue No. AF1-150 to be effective 1/5/2021.

Filed Date: 2/4/21.

Accession Number: 20210204-5145.

Comments Due: 5 p.m. ET 2/25/21.

Docket Numbers: ER21-1050-000.

Applicants: Midcontinent Independent System Operator, Inc., ITC Midwest LLC.

Description: § 205(d) Rate Filing: 2021-02-05_SA 3013 ITC-DPC 1st Rev TIA to be effective 4/7/2021.

Filed Date: 2/5/21.

Accession Number: 20210205-5004.

Comments Due: 5 p.m. ET 2/26/21.

Docket Numbers: ER21-1051-000.

Applicants: PJM Interconnection, L.L.C.

Description: § 205(d) Rate Filing: Amendment to WMPA, Service Agreement No. 5495; Queue No. AE1-124 to be effective 9/30/2019.

Filed Date: 2/5/21.

Accession Number: 20210205-5024.

Comments Due: 5 p.m. ET 2/26/21.

Docket Numbers: ER21-1052-000.

Applicants: Midcontinent Independent System Operator, Inc.

Description: § 205(d) Rate Filing: 2021-02-05_SA 3480 ATC-Darien Solar Energy Center 1st GIA (J850) to be effective 1/26/2021.

Filed Date: 2/5/21.

Accession Number: 20210205-5036.

Comments Due: 5 p.m. ET 2/26/21.

Docket Numbers: ER21-1053-000.

Applicants: Alabama Power Company.

Description: Tariff Cancellation: O'Neal Solar LGIA Termination Filing to be effective 2/5/2021.

Filed Date: 2/5/21.

Accession Number: 20210205-5055.

Comments Due: 5 p.m. ET 2/26/21.

Docket Numbers: ER21-1054-000.

Applicants: Southwestern Public Service Company.

Description: § 205(d) Rate Filing: Schedule 1A Operating Procedures—Update to be effective 1/1/2021.

Filed Date: 2/5/21.

Accession Number: 20210205-5059.

Comments Due: 5 p.m. ET 2/26/21.

Docket Numbers: ER21-1055-000.

Applicants: Southwest Power Pool, Inc.

Description: § 205(d) Rate Filing: 3774 The Energy Authority and MEAN Meter Agent Agreement to be effective 2/1/2021.

Filed Date: 2/5/21.

Accession Number: 20210205-5063.

Comments Due: 5 p.m. ET 2/26/21.

Docket Numbers: ER21-1056-000.

Applicants: Pickaway County Solar Project, LLC.

Description: Baseline eTariff Filing: Common Facilities Agreement to be effective 2/6/2021.

Filed Date: 2/5/21.

Accession Number: 20210205-5100.

Comments Due: 5 p.m. ET 2/26/21.

Docket Numbers: ER21-1057-000.

Applicants: Pickaway County II Solar Project, LLC.

Description: Baseline eTariff Filing: Certificate of Concurrence for Common Facilities Agreement to be effective 2/6/2021.

Filed Date: 2/5/21.

Accession Number: 20210205-5101.

Comments Due: 5 p.m. ET 2/26/21.

Docket Numbers: ER21-1058-000.

Applicants: Buckeye Plains Solar Project, LLC.

Description: Baseline eTariff Filing: Certificate of Concurrence for Common Facilities Agreement to be effective 2/6/2021.

Filed Date: 2/5/21.

Accession Number: 20210205-5102.

Comments Due: 5 p.m. ET 2/26/21.

Docket Numbers: ER21-1059-000.

Applicants: Buckeye Plains II Solar Project, LLC.

Description: Baseline eTariff Filing: Certificate of Concurrence for Common Facilities Agreement to be effective 2/6/2021.

Filed Date: 2/5/21.

Accession Number: 20210205-5104.

Comments Due: 5 p.m. ET 2/26/21.

Docket Numbers: ER21-1060-000.

Applicants: Southern California Edison Company.

Description: § 205(d) Rate Filing: DSA Quarantina Energy Storage, LLC—Quarantina Energy Storage & Cancel Ltr Agmt to be effective 4/7/2021.

Filed Date: 2/5/21.

Accession Number: 20210205-5118.

Comments Due: 5 p.m. ET 2/26/21.

Docket Numbers: ER21-1061-000.

Applicants: New York Independent System Operator, Inc, Niagara Mohawk Power Corporation.

Description: § 205(d) Rate Filing: Joint executed LGIA among the NYISO, National Grid, and PPM Roaring SA 2593 to be effective 1/25/2021.

Filed Date: 2/5/21.

Accession Number: 20210205-5120.

Comments Due: 5 p.m. ET 2/26/21.

Docket Numbers: ER21-1062-000.

Applicants: New York Independent System Operator, Inc., Power Authority of the State of New York.

Description: § 205(d) Rate Filing: Joint EPC Agreement among NYISO, NYPA, and PPM Roaring Brook, SA 2592 to be effective 1/25/2021.

Filed Date: 2/5/21.

Accession Number: 20210205-5128.

Comments Due: 5 p.m. ET 2/26/21.

Docket Numbers: ER21-1063-000.

Applicants: Morris Cogeneration, LLC, Chambers Cogeneration, Limited Partnership.

Description: Compliance filing: Informational Filing Pursuant to Section 2 to be effective N/A.

Filed Date: 2/5/21.

Accession Number: 20210205-5130.

Comments Due: 5 p.m. ET 2/26/21.

Docket Numbers: ER21-1064-000.

Applicants: PJM Interconnection, L.L.C.

Description: § 205(d) Rate Filing: Original ISA, Service Agreement No. 5889; Queue Nos. AC2-186, AC2-187, AC2-188 to be effective 1/6/2021.

Filed Date: 2/5/21.

Accession Number: 20210205-5152.

Comments Due: 5 p.m. ET 2/26/21.

Docket Numbers: ER21-1065-000.

Applicants: TransCanyon Western Development, LLC.

Description: Baseline eTariff Filing: Formula Rate to be effective 4/7/2021.

Filed Date: 2/5/21.

Accession Number: 20210205-5161.

Comments Due: 5 p.m. ET 2/26/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2021.
Kimberly D. Bose,
Secretary.

[FR Doc. 2021-02854 Filed 2-11-21; 8:45 am]

BILLING CODE 6717-01-P